ENVIRONMENTAL PROTECTION AGENCY

40 CFR Part 52

[EPA-R05-OAR-2010-0393; FRL-9463-1]

Approval and Promulgation of Air Quality Implementation Plans; Ohio and West Virginia; Determinations of Attainment of the 1997 Annual Fine Particle Standard for Four Nonattainment Areas

AGENCY: Environmental Protection Agency (EPA).

ACTION: Final rule.

SUMMARY: EPA is taking final action determining that the fine particulate matter (PM2.5) nonattainment areas of Cleveland-Akron, Columbus, Dayton-Springfield, and Steubenville-Weirton (hereafter referred to as “Areas”) have attained the 1997 annual average PM2.5 National Ambient Air Quality Standard (NAAQS) under the Clean Air Act (CAA). EPA is also determining, based on quality-assured, quality-controlled, and certified ambient air monitoring data for the 2007-2009 monitoring period, that these Areas have attained the 1997 annual PM2.5 NAAQS by the applicable attainment date of April 5, 2010.

DATES: This final rule is effective on October 14, 2011.

ADDRESSES: EPA has established a docket for this action under Docket ID No. EPA-R05-OAR-2010-0393. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically through http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Carolyn Persoon, Environmental Engineer, at (312) 353-8290, before visiting the Region 5 office.

FOR FURTHER INFORMATION CONTACT: In Region 5, Carolyn Persoon, Environmental Engineer, Control Strategies Section, Air Programs Branch (AR-18J), Environmental Protection Agency, Region 5, 77 West Jackson Boulevard, Chicago, Illinois 60604, (312) 353-8290, persoon.carolyn@epa.gov. In Region 3, Irene Shandruk, Office of Air Program Planning (3AP30), U.S. Environmental Protection Agency, Region 3, 1650 Arch Street, Philadelphia, PA 19103-2029, (215) 814-2166, shandruk.irene@epa.gov.

SUPPLEMENTARY INFORMATION: Throughout this document whenever “we,” “us,” or “our” is used, we mean EPA. This SUPPLEMENTARY INFORMATION section is arranged as follows:

I. What action is EPA taking?

II. What are the effects of this action?

III. Statutory and Executive Order Reviews

I. What action is EPA taking?

EPA is making the final determination that three Ohio nonattainment areas (the Cleveland-Akron, the Columbus, and the Dayton-Springfield areas) and one Ohio-West Virginia bi-state area (the Steubenville-Weirton area) have attained the 1997 annual PM2.5 NAAQS. EPA's determination is based upon the most recent three years of complete, quality-assured, quality-controlled, and certified ambient air monitoring data for the Areas showing that they have monitored attainment of the 1997 annual PM2.5 NAAQS based on the 2007-2009 data as well as the 2008-2010 data (see Table 1). EPA is also making the final determination, in accordance with EPA's PM2.5 Implementation Rule of April 25, 2007 (72 FR 20664), that the Areas have attained the 1997 annual PM2.5 NAAQS by their applicable attainment date of April 5, 2010.

EPA published in the Federal Register its proposed determination for the four nonattainment Areas on May 17, 2011 (76 FR 28393). A detailed discussion of the rationale for the determination, and the effect of the determination, was included in the proposal. EPA received no comments on the proposed rule.

Table 1—Annual PM2.5 Design Values for Ohio (Cleveland-Akron, Columbus, Dayton-Springfield, and Steubenville-Weirton) Area Monitors With Complete Data for 2007 to 2009 in μg/m³
State | County | Monitor | Annual design value 2007-2009 (μg/m³) | Annual design value 2008-2010 (μg/m³)
Cleveland-Akron
OH | Cuyahoga | 39-035-0034 | 11.6 | 10.7
|  | 39-035-0038 | 14.4 | 13.6
|  | 39-035-0045 | 13.6 | 12.9
|  | 39-035-0060 | 14.1 | 13.4
|  | 39-035-0065 | 14.3 | 13.4
|  | 39-035-1002 | 12.1 | 11.4
| Lorain | 39-093-3002 | 11.4 | 10.6
| Medina | 39-103-0003 | 11.8 | 11.1
| Portage | 39-133-0002 | 12.3 | 11.5
| Summit | 39-153-0017 | 13.7 | 13.2
|  | 39-153-0023 | 12.7 | 12.3
Columbus
OH | Franklin | 39-049-0024 | 13.0 | 12.5
|  | 39-049-0025 | 12.9 | 12.1
|  | 39-049-0081 | 11.7 | 11.2
Dayton-Springfield
OH | Clark | 39-023-0005 | 13.2
| Greene | 39-057-0005 | 12.1 | 12.1
| Montgomery | 39-113-0032 | 13.7 | 13.2
Steubenville-Weirton
OH | Jefferson | 39-081-0017 | 14.2 | 13.0
|  | 39-081-1001 | 13.6 | 12.7
WV | Brooke | 54-009-0005 | 14.4 | 13.7
|  | 54-009-0011 | 14.0 | 13.1
| Hancock | 59-029-1004 | 13.4 | 12.4

II. What are the effects of this action?

EPA's determination of attainment, based on the most recent three years of quality-assured, quality-controlled, and certified ambient air monitoring data suspends the requirements for the Cleveland-Akron, Columbus, Dayton-Springfield, and Steubenville-Weirton PM2.5 nonattainment areas from submitting attainment demonstrations, RACM (including RACT), RFP plans, contingency measures, and other planning SIP revisions related to attainment of the 1997 annual PM2.5 NAAQS for so long as the Areas continue to attain the 1997 annual PM2.5 NAAQS.

Specifically, the determination of attainment for the Cleveland-Akron, Columbus, Dayton-Springfield, and Steubenville-Weirton PM2.5 nonattainment areas (1) Suspend the states' obligation for Ohio and West Virginia to submit the requirements listed above; (2) continue such suspension until such time, if any, that EPA subsequently determines that any monitor in the area has violated the 1997 annual PM2.5 NAAQS; and (3) be separate from any future designation determination or requirements for the Cleveland-Akron, Columbus, Dayton-Springfield, and Steubenville-Weirton PM2.5 nonattainment areas based on the 2006 PM2.5 NAAQS or future PM2.5 NAAQ revision.

Finalizing this action does not constitute a redesignation of the Areas to attainment for the 1997 annual PM2.5 NAAQS under CAA section 107(d)(3). Further, finalizing this action does not involve approving maintenance plans for the Areas, nor does it involve a determination that the Cleveland-Akron, Columbus, Dayton-Springfield, and Steubenville-Weirton PM2.5 nonattainment areas have met all the requirements for redesignation under the CAA. Therefore, the designation status of the portions of the Cleveland-Akron, Columbus, Dayton-Springfield, and Steubenville-Weirton PM2.5 nonattainment areas will remain nonattainment for the 1997 annual PM2.5 NAAQS until such time as EPA takes final rulemaking action to determine that such portions meet the CAA requirements for redesignation to attainment.

In addition, EPA is finalizing a separate and independent determination that these Areas have attained the 1997 annual PM2.5 standard by the applicable attainment date (April 5, 2010), thereby satisfying EPA's requirement pursuant to section 179(c)(1) of the CAA to make a determination of whether the Areas attained the standard by the applicable attainment date.

This action described above makes determinations regarding the Cleveland-Akron, Columbus, Dayton-Springfield, and Steubenville-Weirton areas' attainment only with respect to the 1997 annual PM2.5 NAAQS. Today's action does not address the 24-hour PM2.5 NAAQS.

III. Statutory and Executive Order Reviews

This action makes determinations of attainment based on air quality, and will result in the suspension of certain Federal requirements, and will not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 14, 2011. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Particulate matter, Reporting and recordkeeping requirements.

Dated: July 29, 2011.
Susan Hedman,
Regional Administrator, Region 5.
Dated: August 10, 2011.
W.C. Early,
Acting Regional Administrator, Region 3.

40 CFR part 52 is amended as follows:

PART 52—[AMENDED]

1. The authority citation for part 52 continues to read as follows:

Authority: 42 U.S.C. 7401 et seq.

Subpart KK—Ohio

2. Section 52.1880 is amended by adding paragraph (n) to read as follows:

§ 52.1880 Control strategy: Particulate matter.

* * * * *

(n) Determination of Attainment. EPA has determined, as of September 14, 2011, that based on 2007 to 2009 ambient air quality data, the Cleveland-Akron, Columbus, Dayton-Springfield, and Steubenville-Weirton nonattainment areas have attained the 1997 annual PM2.5 NAAQS. This determination, in accordance with 40 CFR 52.1004(c), suspends the requirements for these areas to submit attainment demonstrations, associated reasonably available control measures, reasonable further progress plans, contingency measures, and other planning SIPs related to attainment of the standard for as long as these areas continue to meet the 1997 annual PM2.5 NAAQS.

3. Section 52.1892 is amended by redesignating the existing paragraph as paragraph (a) and by adding paragraph (b) to read as follows:

§ 52.1892 Determination of attainment.

* * * * *

(b) Based upon EPA's review of the air quality data for the 3-year period 2007 to 2009, EPA determined that the Cleveland-Akron, Columbus, Dayton-Springfield, and Steubenville-Weirton fine particle (PM2.5) nonattainment areas attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Cleveland-Akron, Columbus, Dayton-Springfield, and Steubenville-Weirton PM2.5 nonattainment areas are not subject to the consequences of failing to attain pursuant to section 179(d).

Subpart XX—West Virginia

4. Section 52.2526 is amended by adding paragraph (d) to read as follows:

§ 52.2526 Control strategy: Particulate matter.

* * * * *

(d) Determination of Attainment. EPA has determined, as of September 14, 2011, that based on 2007 to 2009 ambient air quality data, the Steubenville-Weirton nonattainment area has attained the 1997 annual PM2.5 NAAQS. This determination, in accordance with 40 CFR 52.1004(c), suspends the requirements for this area to submit an attainment demonstration, associated reasonably available control measures, a reasonable further progress plan, contingency measures, and other planning SIPs related to attainment of the standard for as long as this area continues to meet the 1997 annual PM2.5 NAAQS.

5. Section 52.2527 is amended by redesignating the existing paragraph as paragraph (a) and by adding paragraph (b) to read as follows:

§ 52.2527 Determination of attainment.

* * * * *

(b) Based upon EPA's review of the air quality data for the 3-year period 2007 to 2009, EPA determined that the Steubenville-Weirton fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Steubenville-Weirton PM2.5 nonattainment area is not subject to the consequences of failing to attain pursuant to section 179(d).

[FR Doc. 2011-23367 Filed 9-13-11; 8:45 am]

BILLING CODE 6560-50-P